ENVIRONMENTAL PROTECTION AGENCY

40 CFR PART 52

[TX-155-1-7591b; FRL-7564-6]

Approval and Promulgation of Implementation Plans; Texas; Revisions to Regulations for Control of Air Pollution by Permits for New Sources and Modifications

AGENCY: Environmental Protection Agency (EPA).

ACTION: Proposed rule.

SUMMARY: The EPA proposes to approve revisions to the Texas State Implementation Plan (SIP). This includes revisions that the Texas Commission on Environmental Quality (TCEQ) submitted to EPA on January 3, 2003, to require that equipment associated with a new or relocated concrete crushing facility be located or operated at least 440 yards from any building used as a single or multi-family residence, school, or place of worship. This action is being taken under section 110 of the Federal Clean Air Act, as amended (the Act, or CAA).

In the “Rules and Regulations” section of the Federal Register, EPA is approving the State's SIP revision as a direct final rule without prior proposal because the Agency considers this as a noncontroversial revision and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based upon this proposed action. The EPA will not institute a second comment period on this action. Any parties interested in commenting on this action should do so at this time. Please note that if EPA receives adverse comment on part of this rule and if that part can be severed from the remainder of the rule, we may adopt as final those parts of the rule that are not subject of an adverse comment.

DATES: Written comments must be received on or before October 30, 2003.

ADDRESSES: Comments may be submitted to Mr. Guy Donaldson, Chief, Air Permits Section (6PD-R), Environmental Protection Agency, 1445 Ross Avenue, Dallas, Texas 75202-2733. Comments may also be submitted electronically, or through hand delivery/courier. Please follow the detailed instructions (Part (I)(B)(1)(i) through (iii) of the SUPPLEMENTARY INFORMATION section) described in the direct final rule which is located in the “Rules and Regulations” section of this Federal Register.

FOR FURTHER INFORMATION CONTACT: Stanley M. Spruiell of the Air Permits Section at (214) 665-7212, or spruiell.stanley@epa.gov.

SUPPLEMENTARY INFORMATION: For further information, please see the information provided in the direct final action, with the same title, that is located in the “Rules and Regulations” section of this Federal Register.

Dated: September 15, 2003.
Lawrence E. Starfield,
Deputy Regional Administrator, Region 6.

[FR Doc. 03-24554 Filed 9-29-03; 8:45 am]

BILLING CODE 6560-50-P